DEPARTMENT OF COMMERCE

National Oceanic and Atmospheric Administration

Proposed Information Collection; Comment Request; Survey of Public Perceptions and Attitudes About Hawaiian Monk Seals

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 29, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jen Metz, (808) 944-2268 or Jennifer.Metz@noaa.gov.

SUPPLEMENTARY INFORMATION:

I. Abstract

The purpose of this information-gathering activity is to gain a better understanding of public knowledge, attitudes, beliefs, values, and behaviors regarding the endangered Hawaiian monk seal. The information gained will be used to develop management strategies and an outreach and education plan intended to reduce human-seal interactions. Members of the public targeted for this survey will include people likely to encounter Hawaiian monk seals in the wild, including but not limited to: fishers, surfers, beach goers, divers, operators and patrons of commercial water sports tours, and hotel managers operating in areas of high monk seal activity. The information gathered by this survey, and the management and education and outreach efforts it supports, will be increasingly useful for Hawaiian monk seal conservation as seals are expected to become more numerous around the populated Hawaiian Islands over the next several years. The Hawaiian monk seal is listed as endangered under the Endangered Species Act and is also protected under the Marine Mammal Protection Act and Hawaii State law.

II. Method of Collection

Participants voluntarily complete paper questionnaires. Questionnaires will be distributed in-person and by mail. Methods of submittal include direct on-site return to those conducting the survey, and mail/fax/e-mail.

III. Data

OMB Control Number: None.

Form Number: None.

Type of Review: Regular submission.

Affected Public: Individuals and households; business and for-profit organizations.

Estimated Number of Respondents: 500.

Estimated Time per Response: 15 minutes.

Estimated Total Annual Burden Hours: 167.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 21, 2010.
Gwellnar Banks,
Management Analyst, Office of the Chief Information Officer.

[FR Doc. 2010-1449 Filed 1-25-10; 8:45 am]

BILLING CODE 3510-22-P